NATIONAL SCIENCE FOUNDATION

Agency Information Collection Activities: Comment Request

AGENCY: National Science Foundation.

ACTION: Notice.

SUMMARY: The National Science Foundation (NSF) is announcing plans to request reinstatement and approval of this data collection. In accordance with the requirement of Section 3506(c)(2)(A) of the Paperwork Reduction Act of 1995, we are providing opportunity for public comment on this information collection.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by May 26, 2015 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by email to splimpto@nsf.gov.

FOR FURTHER INFORMATION CONTACT: Suzanne Plimpton on (703) 292-7556 or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: Survey of Science and Engineering Research Facilities.

OMB Control Number: 3145-0101.

Expiration Date of Approval: October 31, 2014.

Type of Request: Intent to seek approval to reinstate an information collection for three years.

Proposed Project

Abstract: The National Science Foundation Survey of Science and Engineering Research Facilities is a Congressionally mandated (Pub. L. 99-159; NSF Act of 1950, as amended; America COMPETES Reauthorization Act of 2010), biennial survey that has been conducted since 1986. As required by law, the survey collects data on the amount, condition, costs of, and universities need for, the physical facilities used to conduct research in individual science and engineering fields. It was expected by Congress that this survey would provide the data necessary to describe the status and needs of science and engineering research facilities and to formulate appropriate solutions to documented needs. Data on computing and networking capacity, often termed “cyberinfrastructure” were collected from 2003 to 2013. These questions will be eliminated from future questionnaires based on a review by NCSES that indicated the data did not provide clear and useful metrics for measuring cyberinfrastructure.

Use of the Information: Analysis of the Facilities Survey data provide updated information on the status of scientific and engineering research facilities and capabilities. The information is used by Federal policy makers, planners, and budget analysts in making policy decisions, as well as by institutional academic officials, the scientific/engineering establishment, and state agencies and legislatures that fund universities.

Expected Respondents: The Facilities Survey is a census of academic institutions that performed at least $1 million in separately budgeted science and engineering research and development in the previous fiscal year.

In the most recent FY 2013 Facilities Survey, a census of 588 academic institutions was conducted. The sampling frame for the survey was the FY 2012 Higher Education Research and Development Survey conducted by the National Center for Science and Engineering Statistics. Data are collected through a Web-based interface, although institutions have the option of printing and completing a PDF that can be sent by mail.

Estimate of Burden: The Facilities Survey will be sent to approximately 600 academic institutions for the FY 2015 and FY 2017 data collection cycles. The completion time per academic institution is expected to average 19 hours based on completion time estimates provided by all survey participants in the FY 2013 survey. This would result in an estimated burden of 11,210 hours per cycle.

Dated: March 23, 2015.
Suzanne H. Plimpton,
Reports Clearance Officer, National Science Foundation.

[FR Doc. 2015-06910 Filed 3-25-15; 8:45 am]

BILLING CODE 7555-01-P